DEPARTMENT OF HOUSING AND URBAN DEVELOPMENT

[Docket No. FR-5194-N-06]

Notice of Proposed Information Collection: Comment Request Study of Rents and Rent Flexibility

AGENCY: Office of the Assistant Secretary for Public and Indian Housing, HUD.

ACTION: Notice of proposed information collection.

SUMMARY: The proposed information collection requirement described below will be submitted to the Office of Management and Budget (OMB) for review, as required by the Paperwork Reduction Act. The Department is soliciting public comments on the subject proposal.

DATES: Comments Due Date: April 28, 2008.

ADDRESSES: Interested persons are invited to submit comments regarding this proposal. Comments should refer to the proposal by name/or OMB Control number and should be sent to: Lillian L. Deitzer, Departmental Reports Management Officer, ODAM, Department of Housing and Urban Development, 451 7th Street, SW., Room 4178, Washington, DC 20410-5000; telephone 202-402-8048, (this is not a toll-free number) or e-mail Ms. Deitzer at: Lillian.I.Deitzer@hud.gov for a copy of the proposed interview guide, phone survey instrument, or other available information.

FOR FURTHER INFORMATION CONTACT: Mary Schulhof, Office of Policy, Programs and Legislative Initiatives, PIH, Department of Housing and Urban Development, 451 7th Street, SW., Room 4116, Washington, DC 20410; telephone 202-708-0713, (this is not a toll-free number).

SUPPLEMENTARY INFORMATION: The Department will submit the proposed information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Study of Rents and Rent Flexibility.

OMB Control Number: 2577-pending.

Description of the Need for the Information and Proposed Use: The Department is conducting, under contract with Abt Associates and its partners, Applied Real Estate Analysis Inc. (AREA) and the Urban Institute, an exploration into alternative rent structures to the current income-based system used in the Public Housing and Housing Choice Voucher programs. These two programs serve over 3 million low-income and extremely low-income families. They are programs that have steadily increased in complexity and costs. Because these programs shape who is assisted (and who is not), what they pay, what they earn, and how long they stay, it is important to understand three important elements of program administration. Those components are eligibility preferences based on extremely low-income standards, tenant contributions based primarily on 30 percent of adjusted reported incomes, and (in the voucher program) the payment standard that caps the gross rent and helps determine how much of the gross rent is the tenant's responsibility and how much is the Housing Authority's. This study will review possible reforms and alternative rent structures to the current income-based approach for calculating rental subsidies in these two programs.

Through a combination of on-site and phone interviews the contractors will research the current components of income used for determining eligibility and income-based tenant rents, alternative subsidy structures, possible effects of reform regarding level of subsidy, availability of possible additional subsidies to needy, but unassisted populations. The data collected through the interviews will describe the current system and key issues including, administration, tenant income/data collection accuracy and if the current distribution of assistance is equitable. Interviews will also yield important information regarding thoughts on proposed alternative systems and how they may be advantageous or detrimental to the success of the PHA. In summary, the data collected via interviews will be used in determining the impacts of alternative rent structures if implemented in the public housing and housing choice voucher program in comparison with the current income-based system.

Agency form number, if applicable: Not applicable.

Members of affected public: Staff from Public Housing Authorities included in the sample and waiting list and recent admission households into either the Public Housing or Housing Choice Voucher program.

Estimation of the total number of hours needed to prepare the information collection including number of respondents: The study contains four pieces where data collection will occur. First, the researchers will administer twenty five on-site interviews over two day periods, conducting an average of six interviews at each site visit with Executive Directors, public housing directors, Housing Choice Voucher directors, staff that determine eligibility and tenant rents, and two local housing market experts. Each interview performed is expected to last up to one hour. An additional 180 phone surveys will be conducted with a nationally representative sample of PHA staff across the country. Each phone survey is expected to last 60 minutes. Interviews with PHA staff will provide information on their waiting lists, experience with the current system, experience with rent flexibility and related efforts, and views on alternative rent structures. Additionally, up to 1,500 interviews with eligible participants on the waiting list and/or those recently admitted into the program will be completed. These interviews are expected to last approximately three-quarters of an hour and will provide insight into how they are or would be affected by the current system and the proposed alternatives. Lastly, up to 470 follow-up interviews with PHA staff and households may be completed with each interview lasting from three-quarters of an hour to one hour each. Total respondents inclusive of all data collection processes are 2,300 and the total reporting burden is 1,863 hours.

Status of the proposed information collection: New collection.

Authority: Section 3506 of the Paperwork Reduction Act of 1995, 44 U.S.C. Chapter 35, as amended.

Dated: February 21, 2008.
Bessy Kong,
Deputy Assistant Secretary for Policy, Programs, and Legislative Initiatives.

[FR Doc. E8-3632 Filed 2-26-08; 8:45 am]

BILLING CODE 4210-67-P